DEPARTMENT OF TRANSPORTATION

Federal Aviation Administration

[Policy Statement No. ANM-03-112-06]

Below Deck Class C Cargo Compartment Smoke Penetration

AGENCY: Federal Aviation Administration (FAA), DOT.

ACTION: Notice of proposed policy; request for comments.

SUMMARY: The Federal Aviation Administration (FAA) announces the availability of proposed policy on smoke penetration tests conducted under the provisions of § 25.857.

DATES: Send your comments on or before March 21, 2003.

ADDRESSES: Address your comments to the individual identified under FOR FURTHER INFORMATION CONTACT.

FOR FURTHER INFORMATION CONTACT: Stephen Happenny, Federal Aviation Administration, Transport Airplane Directorate, Transport Standards Propulsion and Mechanical Systems Branch, ANM-112, 1601 Lind Avenue, SW., Renton, WA 98055-4056; telephone (425) 227-2147; fax (425) 227-1320; e-mail: stephen.happenny@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-112-06.”

Use the following format when preparing your comments.

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy will further simplify the certification process pertaining to the acceptable amount of smoke penetration permitted into the cabin during a below deck Class C cargo compartment smoke penetration test. It will provide clarification to the test criteria given for the means of compliance as addressed in AC 25-9A as well as supplement that material.

Issued in Renton, Washington, on February 7, 2003.
Ali Bahrami,
Acting Manager, Transport Airplane Directorate, Aircraft Certification Service.

[FR Doc. 03-3974 Filed 2-18-03; 8:45 am]

BILLING CODE 4910-13-M